DEPARTMENT OF THE TREASURY

Privacy Act of 1974; Systems of Records

AGENCY: Department of the Treasury.

ACTION: Notice of proposed Privacy Act of 1974 systems of records.

SUMMARY: In accordance with the Privacy Act of 1974, as amended, 5 U.S.C. 552a, the Department of the Treasury (“Treasury”) proposes to establish new Privacy Act systems of records titled “Treasury .017—Correspondence and Contact Information.” The systems will be used to facilitate mailings and correspondence to multiple addressees and other activities in furtherance of Treasury duties. Treasury bureaus and Departmental Offices will use the systems to account for all individuals appearing on contact lists and individuals who choose to be placed on Treasury mailing lists; maintaining lists of individuals who attend meetings; maintaining information regarding individuals who enter Treasury-sponsored contests; and for other purposes for which mailing or contact lists may be created.

DATES: Submit comments on or before July 20, 2015. This new systems will be effective July 28, 2015 unless comments are received which result in a contrary determination.

ADDRESSES: You may submit comments, by one of the following methods:

• Online: Submit comments to the Federal eRulemaking Portal electronically at: http://www.regulations.gov.

• Fax: 202-622-3895.

• Mail: Helen Goff Foster, Deputy Assistant Secretary for Privacy, Transparency, and Records, Department of the Treasury, 1500 Pennsylvania Ave. NW., Washington, DC 20220.

Instructions: All comments received will be posted without change to http://www.regulations.gov, including any personal information you provide with your submission. For access to background documents or comments received, go to http://www.regulations.gov.

FOR FURTHER INFORMATION CONTACT: For general questions and for privacy issues please contact: Deputy Assistant Secretary for Privacy, Transparency, and Records, Department of the Treasury, 1500 Pennsylvania Ave. NW., Washington, DC 20220, or at (202) 622-0790 (not toll-free).

SUPPLEMENTARY INFORMATION:

In accordance with the Privacy Act of 1974, 5 U.S.C. 552a, the Department of the Treasury proposes to establish new systems of records titled, “Treasury .017—Correspondence and Contact Information.” Information about the proposed systems of records is published in its entirety below.

In accordance with 5 U.S.C. 552a(r), Treasury provided a report of these systems of records to the Office of Management and Budget and to Congress.

Dated: June 1, 2015.
Helen Goff Foster,
Deputy Assistant Secretary for Privacy, Transparency, and Records.

TREASURY .017

System name:

Treasury .017—Correspondence and Contact Information.

System location:

The records are located in Treasury bureaus and offices, both in Washington, DC and at field locations as follows:

(1) Departmental Offices: 1500 Pennsylvania Ave. NW., Washington, DC 20220;

(2) Alcohol and Tobacco Tax and Trade Bureau: 1310 G St. NW., Washington, DC 20220.

(3) Office of the Comptroller of the Currency: Constitution Center, 400 Seventh St. SW., Washington, DC 20024;

(4) Fiscal Service: Liberty Center Building, 401 14th St. SW., Washington, DC 20227;

(5) Internal Revenue Service: 1111 Constitution Ave. NW., Washington, DC 20224;

(6) United States Mint: 801 Ninth St. NW., Washington, DC 20220;

(7) Bureau of Engraving and Printing: Eastern Currency Facility, 14th and C Streets SW., Washington, DC 20228 and Western Currency Facility, 9000 Blue Mound Rd., Fort Worth, TX 76131;

(8) Financial Crimes Enforcement Network: Vienna, VA 22183;

(9) Special Inspector General for the Troubled Asset Relief Program: 1801 L St. NW., Washington, DC 20220;

(10) Office of Inspector General: 740 15th St. NW., Washington, DC 20220;

(11) Office of the Treasury Inspector General for Tax Administration: 1125 15th St. NW., Suite 700A, Washington, DC 20005; and

(12) Financial Stability Oversight Council (FSOC): 1500 Pennsylvania Ave. NW., Washington, DC 20220.

Categories of individuals covered by the systems:

• Individuals who serve on Treasury boards and committees;

• Third parties who identify potential contacts or who provide information Treasury uses to determine an individual's inclusion on a mailing or contact list;

• Individuals who provide contact information, or otherwise consent to having their contact information used, for facilitating communication with Treasury, including but not limited to, members of the public, government officials, representatives of industry, media, non-profits, academia, and others who express an interest in Treasury-related programs and activities;

• Individuals who request information or inclusion on mailing lists for information or updates from Treasury or one of its bureaus or offices, concerning specific issues or topics;

• Treasury employees, contractors, grantees, fiscal agents, financial agents, interns, and detailees, members of the public, government officials, and representatives of industry, media, non-profits, academia, and others, paid or non-paid, attending a Treasury sponsored event, work activity, or an event in which Treasury participated, including meetings, events, or conferences;

• Emergency contact information for the individual point-of-contact for organizations in the event that individual suffers an injury on Treasury premises;

• Alternative points-of-contact contact information provided by individuals or organizations included in a mailing or contact list; and

• Individuals who voluntarily join a Treasury-owned and operated web portal for collaboration purposes.

Categories of records in the systems:

• Name

• Preferred name

• Business contact information including, but not limited to:

○ Business or organization name;

○ Business or organization type;

○ Business mailing address;

○ Job or functional title or business affiliation;

○ Phone number(s);

○ Mobile phone number; fax number;

○ Pager number;

○ Electronic mail (Email) addresses;

• Personal contact information, including, but not limited to:

○ Mailing address;

○ Phone number(s);

○ Mobile phone number; fax number;

○ Pager number;

○ Electronic mail (Email) addresses;

• Other contact information provided by individuals while on travel or otherwise away from the office or home, including:

○ Assistant or other similar point of contact's name, title, or contact information;

• Preferred contact method(s) and contact rules (any specific rules to be followed when considering contacting an individual);

• Communications between Treasury employees and members of the public, Federal, state and local government officials, and representatives of industry, media, non-profits, and academia;

• General descriptions of particular topics or subjects of interest as related to individuals or organizations who communicate with Treasury;

• Information regarding curricula vitae, including memberships in professional societies, affiliation with standards bodies, any teaching positions held, or any publications associated with the individual;

• Travel preferences (individuals who serve on Treasury boards and committees only);

• Identification number assigned by computer in cases where created in order to retrieve information.

Authority for maintenance of the systems:

5 U.S.C. 301.

Purposes:

The systems are maintained to mail informational literature or responses to those who request it; maintain lists of individuals who attend Treasury sponsored events, conferences, work meetings and other activities, or events in which Treasury participates; maintain lists and credentials of individuals who Treasury may consult professionally in furtherance of its mission; and for other purposes for which mailing or contact lists may be created.

Routine uses of records maintained in the systems, including categories of users and the purposes of such uses:

In addition to those disclosures generally permitted under 5 U.S.C. 552a(b) of the Privacy Act, all or a portion of the records or information contained in theses systems may be disclosed outside Treasury as a routine use pursuant to 5 U.S.C. 552a(b)(3), as follows:

A. To the Department of Justice (including United States Attorneys' Offices) or other federal agencies conducting litigation or in proceedings before any court or adjudicative or administrative body, when it is relevant or necessary to the litigation and one of the following is a party to the litigation or has an interest in such litigation:

1. Treasury or any component thereof;

2. Any employee of Treasury in his/her official capacity;

3. Any employee of Treasury in his/her individual capacity where the Department of Justice or Treasury has agreed to represent the employee; or

4. The United States or any agency thereof.

B. To a congressional office in response to an inquiry made at the request of the individual to whom the record pertains.

C. To the National Archives and Records Administration or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. Treasury suspects or has confirmed that the security or confidentiality of information in the system of records has been compromised;

2. The disclosure made to such agencies, entities, and persons is reasonably necessary to assist in connection with Treasury's efforts to respond to the suspected or confirmed compromise and prevent, minimize, or remedy such harm.

F. To contractors and their agents, grantees, experts, consultants, fiscal agents, financial agents, and others performing or working on a contract, service, grant, cooperative agreement, or other assignment for Treasury, when necessary to accomplish an agency function related to the system of records. Individuals provided information under this routine use are subject to the same Privacy Act requirements and limitations on disclosure as are applicable to Treasury officers and employees.

G. To an appropriate Federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person authorizing the disclosure.

H. To sponsors, employers, contractors, facility operators, grantees, experts, fiscal agents, financial agents, and consultants, paid or non-paid, in connection with establishing an access account for an individual or maintaining appropriate points of contact and when necessary to accomplish a Treasury mission function or objective related to the system of records.

I. To other individuals in the same operational program supported by an information technology resource, where appropriate notice to the individual has been made that his or her contact information will be shared with other members of the same operational program in order to facilitate collaboration.

J. To federal agencies, councils and offices, such as the Office of Personnel Management, the Merit Systems Protection Board, the Office of Management and Budget, the Federal Labor Relations Authority, the Government Accountability Office, the Financial Stability Oversight Council, and the Equal Employment Opportunity Commission in the fulfillment of these agencies' official duties.

K. To international, Federal, state, local, tribal, or private entities for the purpose of the regular exchange of business contact information in order to facilitate collaboration for official business.

L. To the news media and the public, with the approval of the Senior Agency Official for Privacy, or her designee, in consultation with counsel, when there exists a legitimate public interest in the disclosure of the information or when disclosure is necessary to preserve confidence in the integrity of Treasury or is necessary to demonstrate the accountability of Treasury's officers, employees, or individuals covered by the system, except to the extent it is determined that release of the specific information in the context of a particular case would constitute an unwarranted invasion of personal privacy.

Policies and practices for storing, retrieving, accessing, retaining, and disposing of records in the system:

Storage:

Records in these systems are on paper and/or in digital or other electronic form. Digital and other electronic images are stored on a storage area network in a secured environment. Records, whether paper or electronic, may be stored in Departmental Offices or at the bureau or office level.

Retrievability:

Information may be retrieved, sorted, and/or searched by an identification number assigned by computer, facility, business affiliation, email address, name of the individual, or other data fields previously identified in this System of Records Notice.

Safeguards:

Information in these systems is safeguarded in accordance with applicable laws, rules, and policies, including Treasury Directive 85-01, Department of the Treasury Information Technology (IT) Security Program. Further, security protocols for these systems of records will meet multiple National Institute of Standards and Technology security standards from authentication to certification and authorization. Records in these systems of records will be maintained in a secure, password protected electronic system that will use security hardware and software to include: Multiple firewalls, active intruder detection, and role-based access controls. Additional safeguards will vary by component and program. All records are protected from unauthorized access through appropriate administrative, physical, and technical safeguards. These safeguards include restricting access to authorized personnel who have a “need to know,” using locks, and password protection identification features. Treasury file areas are locked after normal duty hours and the facilities are protected by security personnel who monitor access to and egress from Treasury facilities.

Retention and disposal:

Records are securely retained and disposed of in accordance with the National Archives and Records Administration's General Records Schedule 12, item 2a. Files may be retained for up to three years depending on the record. For records that may be used in litigation, the files related to that litigation will be retained for three years after final court adjudication.

System manager(s) and address:

Director, Freedom of Information Act and Transparency, Office of Privacy, Transparency, and Records, 1500 Pennsylvania Avenue NW., Washington, DC 20220.

Notification procedure:

Individuals seeking notification of and access to any record contained in these systems of records, or seeking to contest its content, may submit a request in writing, in accordance with Treasury's Privacy Act regulations (located at 31 CFR 1.26), to the Freedom of Information Act (FOIA) and Transparency Liaison, whose contact information can be found at http://www.treasury.gov/FOIA/Pages/index.aspx under “FOIA Requester Service Centers and FOIA Liaison.” If an individual believes more than one bureau maintains Privacy Act records concerning him or her, the individual may submit the request to the Office of Privacy, Transparency, and Records, FOIA and Transparency, Department of the Treasury, 1500 Pennsylvania Ave. NW., Washington, DC 20220.

No specific form is required, but a request must be written and:

• Be signed and either notarized or submitted under 28 U.S.C. 1746, a law that permits statements to be made under penalty of perjury as a substitute for notarization

• State that the request is made pursuant to the FOIA and/or Privacy Act disclosure regulations;

• Include information that will enable the processing office to determine the fee category of the user;

• Be addressed to the bureau that maintains the record (in order for a request to be properly received by the Department, the request must be received in the appropriate bureau's disclosure office);

• Reasonably describe the records;

• Give the address where the determination letter is to be sent;

• State whether or not the requester wishes to inspect the records or have a copy made without first inspecting them; and

• Include a firm agreement from the requester to pay fees for search, duplication, or review, as appropriate. In the absence of a firm agreement to pay, the requester may submit a request for a waiver or reduction of fees, along with justification of how such a waiver request meets the criteria for a waiver or reduction of fees found in the FOIA statute at 5 U.S.C. 552(a)(4)(A)(iii).

You may also submit your request online at https://rdgw.treasury.gov/foia/pages/gofoia.aspx and call 1-202-622-0930 with questions.

Record access procedures:

See “Notification procedure” above.

Contesting record procedures:

See “Notification procedure” above.

Record source categories:

Information contained in these systems is obtained from affected individuals, organizations, and facilities; public source data; other government agencies; and information already in other Treasury records systems.

Exemptions claimed for these systems:

None.

[FR Doc. 2015-15039 Filed 6-17-15; 8:45 am]

BILLING CODE 4810-25-P